DEPARTMENT OF HEALTH AND HUMAN SERVICES

Administration for Community Living

Agency Information Collection Activities; Submission for OMB Review; Public Comment Request; Outcome Evaluation of the Long-Term Care Ombudsman Program (LTCOP); OMB# 0985-XXXX

AGENCY: Administration for Community Living (ACL), HHS.

ACTION: Notice.

SUMMARY: The Administration for Community Living is announcing that the proposed collection of information listed above has been submitted to the Office of Management and Budget (OMB) for review and clearance as required under section 506(c)(2)(A) of the Paperwork Reduction Act of 1995. This 30-day notice collects comments on the information collection requirements related to the proposed new information collection requirements related to the Outcome Evaluation for ACL's Long-term Ombudsman Program (LTCOP).

DATES: Submit written comments on the collection of information by August 31, 2020.

ADDRESSES: Submit written comments and recommendations for the proposed information collection within 30 days of publication of this notice to www.reginfo.gov/public/do/PRAMain. Find the Outcome Evaluation for ACL's Long-term Ombudsman Program (LTCOP) information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Susan Jenkins, Ph.D., Administration for Community Living, Washington, DC 20201, 202.795.7369; Susan.Jenkins@acl.hhs.gov.

SUPPLEMENTARY INFORMATION: In compliance with 44 U.S.C. 3507, ACL has submitted the following proposed collection of information to OMB for review and clearance. The mission of the Administration for Community Living (ACL) ¹ is to maximize the independence, well-being, and health of older adults, people with disabilities across the lifespan, and their families and caregivers. The Long-Term Care Ombudsman Program serves individuals living in long-term care facilities (nursing homes, residential care communities, such as assisted living and similar settings) and works to resolve resident problems related to poor care, violation of rights, and quality of life.

¹ In April 2012, a new Operating Division was created within the US Department of Health and Human Services named the Administration for Community Living (ACL). This Operating Division contains the Administration on Aging (AoA).This document consistently refer to the federal agency as “ACL/AoA.”

Ombudsman programs also advocate at the local, state and national levels to promote policies and consumer protections to improve residents' care and quality of life. This data collection is part of an outcome evaluation of the Long-term Care Ombudsman Program (LTCOP) designed to determine the efficacy of LTCOP in carrying out core functions as described in the Older Americans Act, the long-term impacts of the LTCOP's for various stakeholders, what system advocacy among Ombudsman programs looks like, and effective or promising Ombudsman program practices. The efficacy of LTCOP in carrying out core functions as described in the Older Americans Act. ACL is interested in learning:

1. Are the critical functions, including federally mandated responsibilities, of the LTCOP at the state, and local levels, carried out effectively and efficiently?

2. How effective is the LTCOP in ensuring Ombudsman services for the full range of residents of long-term care facilities, including individuals with the greatest economic and social needs?

3. How cost-effective LTCOP strategies are, for example, the cost effectiveness of services offered through consultations, referrals, complaint handling, and via education and outreach activities.

4. What impact do LTCOPs have on long-term care practices, programs, and policies?

5. What impact do LTCOPs have on residents' health, safety, welfare, well-being, and rights?

Act (OAA) programs such as Title VII Long- Term Care Ombudsman Program (LTCOP), ACL/AoA seeks increased understanding of how these programs are operationalized at the State and local levels and their progress towards their goals and mission. This information will enable ACL/AoA to effectively report its results to the President, to Congress, to the Department of Health and Human Services and to the public.

The information will also aid in program refinement and continuous improvement. The more productive ACL/AoA' s programs, the greater the number of older adults have access to a higher quality of life. Therefore, in addition to the legislative mandate under the OAA, it is important for program integrity and function to evaluate the LTCOP.

Comments in Response to the 60-Day Federal Register Notice

A notice was published in the Federal Register on April 13, 2020 in FR 85 20506. There were no public comments received during the 60-day FRN comment period.

To comment and review the proposed data collection please visit the ACL website at https://www.acl.gov/about-acl/public-input.

ACL estimates the burden associated with this collection of information as follows:

Estimated Program Burden
Respondent/data collection activity | Number of respondents | Responses per respondent | Hours per response | Annual burden hours
Focus Group-Facility staff including participant information | 16 | 1 | 0.33 | 5.3
Focus Group-Residents/family including participant information | 24 | 1 | 1 | 24
Interview-Stakeholders | 40 | 1 | 1 | 40
Survey-Facility Administrator | 1840 | 1 | 0.33 | 607.2
Survey-Former Ombudsmen | 12 | 1 | 1 | 12
Survey-SUA director | 53 | 1 | 0.5 | 26.5
Total | 1985 |  | 4.16 | 715

Dated: July 27, 2020.
Mary Lazare,
Principal Deputy Administrator.

[FR Doc. 2020-16583 Filed 7-30-20; 8:45 am]

BILLING CODE 4154-01-P